DEPARTMENT OF COMMERCE

National Oceanic and Atmospheric Administration

RIN 0648-XG85

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the Gulf of Maine Research Institute (GMRI) contains all of the required information and warrants further consideration. The Assistant Regional Administrator has made a preliminary determination that the activities authorized under this EFP would be consistent with the goals and objectives of the Monkfish Fishery Management Plan (FMP). However, further review and consultation may be necessary before a final determination is made to issue an EFP. Therefore, NMFS announces that the Assistant Regional Administrator proposes to recommend that an EFP be issued that would allow 11 commercial fishing vessels to conduct compensation fishing operations that are otherwise restricted by the regulations governing the fisheries of the Northeastern United States. This EFP, which would enable vessels to harvest monkfish granted through the Monkfish Research Set-Aside (RSA) Program, would grant exemptions from the monkfish days-at-sea (DAS) possession limits in the Southern Fishery Management Area.

Regulations under the Magnuson-Stevens Fishery Conservation and Management Act require publication of this notification to provide interested parties the opportunity to comment on applications for proposed EFPs.

DATES: Comments must be received on or before May 12, 2008.

ADDRESSES: You may submit written comments by any of the following methods:

• Email: DA8-081@noaa.gov. Include in the subject line “Comments on GMRI Monkfish EFP.”

• Mail: Patricia A. Kurkul, Regional Administrator, NMFS, NE Regional Office, 1 Blackburn Drive, Gloucester, MA 01930. Mark the outside of the envelope “Comments on GMRI monkfish EFP, DA8-081.”

• Fax: (978) 281-9135.

FOR FURTHER INFORMATION CONTACT: Emily Bryant, Fishery Management Specialist, 978-281-9244.

SUPPLEMENTARY INFORMATION: An application for an EFP was submitted by GMRI on March 21, 2008, for a project funded under the New England and Mid-Atlantic Fishery Management Councils' Monkfish RSA Program. The project itself will evaluate the discard of monkfish caught as bycatch on Northeast (NE) multispecies DAS and directed monkfish trips. Research trips will be covered under a separate EFP. This EFP would grant an exemption from monkfish possession limits to 11 vessels for the purpose of harvesting RSA to fund this research project (i.e. compensation fishing). Funds generated by the compensation fishing will be used to pay for vessel charters, technical and sampling equipment, as well as salaries and stipends for principal investigators and industry collaborators.

The research portion of this project will occur over the course of 1 year and will utilize boat- and port-based data collection programs to estimate and compare monkfish discards between boats trawling for NE multispecies in the DAS program and directed monkfish trips in the Gulf of Maine. The boat-based program will utilize the Study Fleet electronic logbook and independent at-sea sampling, and will be complemented with port-based sampling of retained and otherwise discarded monkfish. The research would be covered under the programmatic Study Fleet EFP. More information regarding the exemptions requested for this EFP can be found in the Federal Register notice that published on March 25, 2008 (73 FR 15739).

Compensation fishing for this research will occur from May 2008 through April 2009. The 11 fishing industry collaborators will have access to 139 Monkfish DAS that will be awarded to the project through the Monkfish RSA Program. These vessels must be able to land at least 2,500 lb (1,134 kg) of whole monkfish (730 lb (331 kg) tail weight) per trip to achieve the goal of $3,000 per RSA DAS. In order to achieve this target catch, these fishing activities would require an exemption from monkfish DAS possession limits at § 648.94(b)(2). This exemption would provide these 11 vessels with the flexibility they need to generate sufficient income to meet projected costs, while minimizing operating expenses, of the research activity. Based on the awarded 139 DAS, this would require a total catch of 347,500 lb (157,623 kg) of whole monkfish (104,669 lb (47,477 kg) tail weight). Operating under this total landings cap, compensation fishing would continue until the required goal of 347,500 lb (157,623 kg) of whole monkfish is met, or until the awarded DAS have been fully utilized, which ever occurs first. Aside from this exemption, fishing activity will be conducted under normal commercial practices.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited. If the research project is terminated for any reason prior to completion, any unused funds collected from catch sold to pay for research expenses may be refunded to NOAA.

Authority: 16 U.S.C. 1801 et seq.

Dated: April 22, 2008.
Emily H. Menashes
Acting Director, Office of Sustainable Fisheries, National Marine Fisheries Service.

[FR Doc. E8-9047 Filed 4-24-08; 8:45 am]

BILLING CODE 3510-22-S